ELECTION ASSISTANCE COMMISSION

Help America Vote College Program Service Day Mini-Grant Program

AGENCY: Election Assistance Commission (EAC).

ACTION: Notice of funding opportunity.

SUMMARY: Through this Notice, EAC is announcing the fiscal year (FY) 2023 Help America Vote College Program (HAVCP) Service Day Mini-Grant Program (Mini-Grant) Notice of Funding Opportunity (NOFO).

DATES: Proposals must be submitted no later than 11:59 p.m. eastern time on Monday, December 18, 2023.

ADDRESSES: Proposals must be submitted to HAVCP@eac.gov.

FOR FURTHER INFORMATION CONTACT: Election Assistance Commission Office of Grants Management, Risa Garza, (202) 740-1483, or at HAVCP@eac.gov.

SUPPLEMENTARY INFORMATION:

A. Program Description

Assistance Listing Number: 90.400.

Funding Opportunity Number: EAC-23-002.

Funding Opportunity Title: Help America Vote College Program Service Day Mini-Grant Program.

1. Purpose of the Program. The Help America Vote College Program (HAVCP) was established in 2004, and through fiscal year 2009, distributed over $2.3 million to colleges and non-profits to recruit, train and support students serving as poll workers on Election Day. In 2023, the EAC introduced the HAVCP Service Day Mini-Grant (Mini-Grant) Program. The information in this NOFO is specific to the Service Day Mini-Grant Program. The Mini-Grant Program is designed to stimulate community action on college campuses and increase the visibility of the EAC's National Poll Worker Recruitment Day and Help America Vote Day. In 2023, the EAC will make an additional $1 million available for the Help America Vote College Program with $50,000 to $150,000 set aside for the Service Day Mini-Grant Program.

The purpose of this grant program is to: (1) Encourage students enrolled at institutions of higher education (including community colleges) to assist State and local governments in the administration of elections by serving as nonpartisan poll workers or assistants; (2) Encourage college students to become cognizant of the elections process and civic education, and to assist in the administration of elections in their community; and (3) Encourage state and local governments to use the services of the students participating in the program.

College Student means any individual enrolled either on a part-time or full-time basis in any undergraduate, graduate, or professional college accredited by an agency recognized by the U.S. Department of Education in the United States.

2. Statutory and Regulatory Authority. The U.S. Election Assistance Commission (EAC) anticipates the availability of $1 million dollars in discretionary grant funding, enacted in the 2023 Consolidated Appropriations Act (Pub. L. No: 117-328), to support the Help America Vote College Program (HAVCP) authorized in the Help America Vote Act of 2002 (HAVA), Public Law 107-252, Title V, Help America Vote College Program. Awards will be administered by the EAC.

3. Performance Measurement. HAVCP Service Day Mini-Grant Program awardees will be required to report on the total number of college student participants served through the funded Service Day activities. The number of students served could include college student participants interacting with staff/volunteers tabling, attending a presentation or roundtable, or engaging through digital (i.e., social media, website), print (i.e., college newspaper), and/or audio platforms (i.e., radio show, podcast).

B. Federal Award Information

Service Day Program

Funding Instrument: Discretionary Mini-Grant.

Award Minimum: $3,000.

Award Maximum: $10,000.

Grant Period: 12 Months.

Anticipated Funding Available: $50,000-$150,000.

1. Funding Type. Funding will be provided in the form of a discretionary grant. EAC will authorize the Treasury Department to disburse funding identified in the agreement through the Payment Management System (PMS) to the applicant as an advance to be drawdown as expenses arise. Per 2 CFR 200, the timing and amount of advance payments must be as close as is administratively feasible to the actual disbursements by the non-Federal entity for direct program or project costs and the proportionate share of any allowable indirect costs. The non-Federal entity must make timely payment to contractors in accordance with the contract provisions. Grantees will be able to request payments as often as practical for their program. Cash and in-kind match expenditures require the same documentation as Federal funds under 2 CFR 200. Grantees must request a drawdown of funds for incurred costs using the electronic Payment Management System (PMS). Prior to initial drawdown of funds, all Grantees must have secured online access to Payment Management System.

C. Eligibility Information

1. Eligible Applicants. EAC encourages applicants to forge robust partnerships to implement the grant and to sustain activities beyond the grant period of performance. The recommended partners for the HAVCP are institutions of higher education as defined in Section 101(a) of the Higher Education Act of 1965 (20 U.S.C. 1001); Nonprofit Organizations; Community and Technical Colleges and Systems; Historically Black Colleges and Universities (HBCUs); Hispanic-Serving Institutions (HSIs); Tribal Colleges and Universities (TCUs); State and Local Election Offices; and Other Minority Serving Institutions Program (MSIs) as designated by the Higher Education Act's Title III and V funding.

Priority Consideration. All selection criteria and application quality being equal, EAC will give priority consideration to projects from institutions and organizations that engage historically underrepresented groups, as defined by the Federal Government (See Appendix C), as poll workers. For the HAVCP Service Day Mini-Grant Program, the EAC will provide further priority consideration to applicants who have historically not been recipients of EAC funding. The EAC is interested in using the Mini-Grant opportunity to engage new organizations in supporting and improving the administration of elections. The HAVCP Service Day Mini-Grant Program will also provide priority consideration for organizations serving individuals or groups in an area of persistent poverty and/or historically disadvantaged community and for organizations serving individuals or groups in a rural area. The EAC is interested in using the Mini-Grant opportunity to engage organizations in locations where barriers to participation in the election process are frequently higher.

2. Cost Sharing or Matching. At the time of award, applicants must demonstrate either cash and/or in-kind contributions on-hand and/or commitments, or a combination thereof, to meet the required 10 percent match, based on the amount of Federal grant funds requested. Match must be met by the project end period.

EAC encourages applicants to leverage additional resources beyond the required match to supplement grant activities. Both matching and leveraged resources can come from a variety of sources, including, but not limited to the private sector (e.g., businesses or industry associations); the philanthropic community (e.g., foundations); and the non-profit sector (e.g., community organizations or education and training institutions). Non-Federal, public-sector funds (e.g., from States or local governments) may be used for matching funds, if necessary. Federal funds from other Federal agencies are not a permissible source of match, unless specifically authorized by the award pursuant to 2 CFR 200.306. Applicants may consult with EAC on sources of match to determine permissibility.

Grantees may recover indirect costs under this grant up to 10 percent of the total Federal share of the grant. If an applicant has an approved Federal indirect cost rate higher than 10 percent, the remainder of the indirect costs can be used as a matching contribution.

3. Other Requirements/Limitations. Applicants may not use any part of an award from the EAC to fund religious instruction, worship or proselytizing, voter registration, get out the vote (GOTV) drives, or other political activities that could be construed as lobbying. Project funds must be used for tasks and activities carried out without partisan bias and without promoting any political point of view regarding any election issue or candidates.

Applications that propose voter registration or GOTV efforts will be considered non-responsive and will not be eligible for funding under this announcement.

Any organization described in Section 501(c)(4) of the Internal Revenue Code of 1986, 26 U.S.C. 501(c)(4) that engages in lobbying activities is not eligible to apply.

The applicant nor its principals cannot be presently debarred, suspended, proposed for debarment, declared ineligible, or voluntarily excluded from participation in this transaction by any Federal department or agency. Federal regulations prohibit supplanting of funds, such as replacing routine and/or existing state or local expenditures with the use of Federal grant funds and/or using Federal grant funds for cost of activities that constitute general expenses required to carry out the overall responsibilities of state or local government.

D. Application and Submission Information

1. Address to Request Application Package. The FY 2023 HAVCP Application Kit, copies of necessary forms and samples, and the program regulations are available at https://www.eac.gov/grants/help-america-vote-college-program.

Application information is also available at https://www.grants.gov/.

2. Content and Form of Application Submission. The deadline for receipt of applications will be Monday, December 18, 2023. Please submit an email stating your intent to apply to HAVCP@eac.gov. This Notice of Intent is not required but helps EAC better plan the review of applications.

The fully completed HAVCP Service Day Mini-Grant Application Form must be submitted, as a word document or pdf, by email to HAVCP@eac.gov with the header “HAVCP Service Day Mini-Grant Program Application—[ORGANIZATION NAME]” before the application submission deadline. The electronic submission of your application must be made by an official representative of your institution who is authorized to request funding on behalf of the applicant organization.

3. Unique Entity Identifier and System for Award Management (SAM).

(a) At the time of application, each applicant must have an active registration in the System for Award Management (SAM) before submitting its application in accordance with 2 CFR part 25, Universal Identifier and System for Award Management. To register in SAM, entities will be required to obtain and create a Unique Entity Identifier (UEI). Instructions for obtaining the UEI are available at https://sam.gov/content/entity-registration.

(b) Each applicant must maintain an active SAM registration, with current, accurate, and complete information, at all times during which it has an active Federal award or an application under consideration by a Federal awarding agency.

(c) Each applicant must ensure they complete the Financial Assistance General Representations and Certifications in SAM.

(d) Applicants must provide a valid UEI in its application, unless determined exempt under 2 CFR 25.110, Exceptions.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times. The deadline for receipt of applications will be Monday, December 18, 2023. Please submit an email stating your intent to apply to HAVCP@eac.gov. This Notice of Intent is not required but helps EAC better plan the review of applications.

The fully completed HAVCP Service Day Mini-Grant Application Form must be submitted by email to HAVCP@eac.gov with the header “HAVCP Service Day Mini-Grant Program Application—[ORGANIZATION NAME]” before the application submission deadline. The electronic submission of your application must be made by an official representative of your institution who is authorized to request funding on behalf of the applicant organization.

Applications received after the deadline date and time are considered late applications and, absent extreme circumstances to be determined by the EAC, will not be reviewed. The EAC will notify each late applicant that the application will not be considered in the current competition. The EAC will only consider a request to submit an application after the deadline when the applicant can document that a technical issue with a government system prevented application submission prior to the application deadline. If an applicant misses a deadline due to unforeseen technical issues with a government system, the applicant may request a waiver to submit an application after the deadline to HAVCP@eac.gov. However, the waiver request will not be considered unless it includes a timestamp or other data point indicating the issue occurred prior to the application submission deadline.

5. Intergovernmental Review. Executive Order 12372, “Intergovernmental Review of Federal Programs,” is not required for this program.

6. Funding Restrictions. Applications must be for eligible purposes described in this Notice.

7. Other Submission Requirements. Applications must be submitted by email to HAVCP@eac.gov with the header “HAVCP Service Day Mini-Grant Program Application—[ORGANIZATION NAME]” by the deadline posted on Grants.gov. The electronic submission of your application must be made by an official representative of your institution who is authorized to request funding on behalf of the applicant organization. To request an accessible, hard copy of the application, please contact the EAC at HAVCP@eac.gov. EAC will not accept requests for a waiver of electronic submission requirements during the preview period. Such requests may only be submitted once the NOFO has been published on Grants.gov.

Interested applicants should submit an email to HAVCP@eac.gov stating your organization's intent to apply. This notice of intent is not required but helps us better plan the review of applications.

E. Application Review Information

1. Criteria. All complete and eligible applications will be evaluated and scored based on the criteria outlined in this section.

The review and selection process are intended to produce a diversified set of high-quality programs that represent the priorities described in this Notice. The determinations made by the EAC may be different from what the applicant self-determined upon submission of its application. The stages of the review and selection process follow:

The EAC will conduct an initial Compliance and Eligibility Review to determine if an application meets the eligibility requirements published in this Notice and advances to the next stage of the review process.

An application is compliant if the applicant:

• is an eligible organization,

• submitted an application by the submission deadline, and

• requested Federal funds in the range provided by the Notice.

Reviewing for eligibility is intended to ensure that only applications eligible for award are further reviewed. However, determinations of eligibility can take place at any point during the application review and selection process. Applicants that are determined to be ineligible will not receive an award.

2. Review and Selection Process. The EAC will assess the applications based on the Organizational Characteristics, Program Design/Strategy, and Budget selection criteria using the scoring rubric below. The EAC will also consider the priorities and strategic considerations detailed in this Notice. All staff reviewing applications will be screened for conflicts of interest. Final funding decisions will be made by the Election Assistance Commission.

HAVCP Scoring Criteria

Total Points Available: 30.

Each application is scored by three staff members. Average scores and priority points are used to present recommendations to the Election Assistance Commission Executive Director and Commissioners.

Organizational Characteristics (Possible Points: 20)

History of EAC Funding

Possible points | Criteria
10 | Organization has not received past funding directly from EAC.
0 | Organization has received past funding directly from EAC.

Area of Persistent Poverty and/or Historically Disadvantaged Community

Possible points | Criteria
5 | Organization serves population(s) in an area of persistent poverty and/or historically disadvantaged community.
0 | Organization does not serve population(s) in an area of persistent poverty and/or historically disadvantaged community.

Rural Area

Possible points | Criteria
5 | Organization serves population(s) in a rural area.
0 | Organization does not serve population(s) in a rural area.

Program Design and Strategy (Possible Points: 5)

Successful applications will address the following elements of Program Design and Strategy:

• A sound and relevant program that meets the unique needs of the communities served;

• A clear description of how the proposed activities will encourage college students to assist state and local governments in the administration of elections by serving as nonpartisan poll workers or assistants and encourage jurisdictions to utilize these efforts; and,

• The number of targeted college students, including how this number was calculated.

Possible points | Criteria
5 | Application narrative clearly and completely addresses all requested components.
3 | Application narrative clearly and completely addresses most of the requested components.
0 | Application narrative is unclear and/or does not address critical application components.

Budget/Cost Effectiveness (Possible Points: 5)

Successful applications will address the following elements of Budget and cost effectiveness:

• Costs are clearly justified based on the proposed activities and project scope;

• Budget and budget narrative are accurate and complete (See Appendix C); and,

• Cost sharing is clearly and accurately identified.

Possible points | Criteria
5 | Budget clearly and completely addresses all requested components.
3 | Budget clearly and completely addresses most of the requested components.
0 | Budget is unclear and/or does not address critical application components.

Priority Consideration. All selection criteria and application quality being equal, EAC will give priority consideration to projects from institutions and organizations that engage historically underrepresented groups, as defined by the Federal Government, as poll workers.

(a) The term “equity” means the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

(b) The term “underserved communities” refers to populations sharing a particular characteristic, as well as geographic communities, that have been systematically denied a full opportunity to participate in aspects of economic, social, and civic life, as exemplified by the list in the preceding definition of “equity.”

For the HAVCP Service Day Mini-Grant Program, the EAC will provide further priority consideration to applicants who have historically not been recipients of EAC funding. The EAC is interested in using the Mini-Grant opportunity to engage new organizations in supporting and improving the administration of elections. The HAVCP Service Day Mini-Grant Program will also provide priority consideration for organizations serving populations in an area of persistent poverty and/or historically disadvantaged community and for organizations located in a rural area. The EAC is interested in using the Mini-Grant opportunity to engage organizations serving locations where barriers to participation in the election process are frequently higher.

3. Applicant Clarification. The EAC may ask applicants for clarifying information during the Clarification Stage of the review process. An Operational and Financial Management Survey will also be requested at this time. The EAC staff will use this information to make funding recommendations. A request for clarification does not guarantee an award. Applicants may be recommended for funding even if they are not asked for clarifying information. An applicant's failure to respond to a request for clarification adequately and in a timely manner may result in the removal of its application from consideration.

4. Pre-Award Risk Assessment. The EAC staff will assess the risks posed by applicants to determine an applicant's ability to manage Federal funds. This assessment is in addition to the Compliance and Eligibility Review and the Application Review. Results from this assessment will inform funding decisions. If the EAC determines that an award will be made to an applicant with assessed risks, special conditions that correspond to the degree of assessed risk may be applied to the award. Additionally, if the EAC concludes that the reasons for applicants having poor risk assessment are not likely to be mitigated, those applications may not be selected for funding.

F. Federal Award Notices

Applicants will be notified in writing of the status of their application:

(a) Eligible and selected for funding;

(b) Eligible bur offered less than requested;

(c) Eligible but not selected for funding; or

(d) Ineligible for the award.

Applicants who are awarded funding will receive a Notice of Grant Award from the EAC with award terms and conditions as well as other grant documents. The Notice will inform grantees of the effective date for grant activities and disbursement.

1. Funding Type. Funding will be provided in the form of a discretionary grant. EAC will authorize the Treasury Department to disburse funding identified in the agreement through the Payment Management System (PMS) to the applicant as an advance to be drawdown as expenses arise. Per 2 CFR 200, the timing and amount of advance payments must be as close as is administratively feasible to the actual disbursements by the non-Federal entity for direct program or project costs and the proportionate share of any allowable indirect costs. The non-Federal entity must make timely payment to contractors in accordance with the contract provisions. Grantees will be able to request payments as often as practical for their program. Cash and in-kind match expenditures require the same documentation as Federal funds under 2 CFR 200. Grantees must request a drawdown of funds for incurred costs using the electronic Payment Management System (PMS). Prior to initial drawdown of funds, all Grantees must have secured online access to Payment Management System.

2. EAC Terms and Conditions. All awards made under this Notice will be subject to the EAC's General Terms and Conditions and the Program-Specific Terms and Conditions for the program (where applicable). These Terms and Conditions contain detailed, mandatory compliance and reporting requirements. The full Terms and Conditions may be viewed on the EAC website here: https://www.eac.gov/grants/help-america-vote-college-program.

3. Reporting. Recipients are required to provide one final Federal financial report (FFR) and one final progress report (PR) submitted by email to HAVCP@eac.gov. Final reports are cumulative over the entire award period and consistent with close-out requirements. The final reports are due 120 days after the performance period ends. All reports must be accurate, complete, and submitted on time.

The Federal financial report required will be the modified version of the Standard Form 425 (SF-425) used by the EAC for other Federal awards. The progress report required will consist of a short narrative, listing of the actual number of college students served, and images demonstrating the Service Day activities undertaken with Federal and non-Federal matching funds.

Once the grant is awarded, recipients will be expected to have in place data collection and data management policies, processes, and practices that provide assurance that they are reporting high quality performance measure data. Failure to submit accurate, complete, and timely required reports may affect the recipient's ability to secure future EAC funding.

For general questions about this announcement, please contact the EAC Office of Grants Management at HAVCP@eac.gov or 202-734-0639. The program website also provides up to date contact information at https://www.eac.gov/grants/help-america-vote-college-program.

H. Other Information

1. Paperwork Reduction Act. In accordance with the Paperwork Reduction Act of 1995 (44 U.S.C. chapter 35), the information collection requirements associated with the programs, as covered in this Notice, have been approved by the Office of Management and Budget (OMB) under OMB Control Number 3265-0025. Public burden reporting for this collection of information is estimated to average 5 hours per response for individuals completing all parts of this form, including time for reviewing instructions, searching existing data sources, gathering, and maintaining the data needed, and completing and reviewing the collection of information. You are not required to answer these questions unless this number is displayed. Send comments regarding the burden estimate or any other aspect of this collection of information, including suggestions for reducing this burden, U.S. Election Assistance Commission, 633 3rd Street NW, Suite 200, Washington, DC 20001.

2. Federal Funding Accountability and Transparency Act. All applicants, in accordance with 2 CFR part 25, must be registered in SAM and have a UEI number as stated in Section D.3. of this Notice. All recipients of Federal financial assistance are required to report information about first-tier sub-awards and executive total compensation in accordance with 2 CFR part 170, Reporting subaward and executive compensation information.

3. Issuance of Federal Awards. The Election Assistance Commission is not obligated to make any Federal awards as a result of this announcement.

4. EAC Terms and Conditions. All awards made under this Notice will be subject to the EAC's General Terms and Conditions and the Program-Specific Terms and Conditions for the program (where applicable). These Terms and Conditions contain detailed, mandatory compliance and reporting requirements.

5. Effects of Nondisclosure. The information requested is voluntary; however, to be a recipient of this grant program, disclosure of personal or sensitive information is required to receive Federal benefits.

6. Use of Material. To ensure that materials generated with HAVA funding are available to the public and readily accessible to recipients and non-recipients, the EAC reserves a royalty-free, nonexclusive, and irrevocable right to obtain, use, modify, reproduce, publish, or disseminate publications and materials produced under the award, including data, and to authorize others to do so (2 CFR 200.315).

7. Uniform Guidance. All awards made under this Notice will be subject to the Uniform Administrative Requirements, Cost Principles, and Audit Requirements for Federal Awards (Uniform Guidance), in 2 CFR part 200.

8. Federal Funding Accountability and Transparency Act. Grant recipients will be required to report at www.FSRS.gov on all subawards over $30,000 and may be required to report on executive compensation for recipients and subrecipients. Recipients must have the necessary systems in place to collect and report this information. See 2 CFR part 170 for more information and to determine how these requirements apply.

Camden Kelliher,
Deputy General Counsel, U.S. Election Assistance Commission.

[FR Doc. 2023-25817 Filed 11-21-23; 8:45 am]

BILLING CODE 4810-71-P